DEPARTMENT OF VETERANS AFFAIRS

38 CFR Part 51

RIN 2900-AO36

Removal of 30-Day Residency Requirement for Per Diem Payments

AGENCY: Department of Veterans Affairs.

ACTION: Final rule; confirmation of effective date.

SUMMARY: The Department of Veterans Affairs (VA) published a direct final rule amending its regulations concerning per diem payments to State homes for the provision of nursing home care to veterans. Specifically, this rule removes the requirement that a veteran must have resided in a State home for 30 consecutive days before VA will pay per diem for that veteran when there is no overnight stay. VA received no significant adverse comments concerning this rule or its companion substantially identical proposed rule published on the same date. This document confirms that the direct final rule became effective on November 26, 2012. In a companion document in this issue of the Federal Register, we are withdrawing as unnecessary the proposed rule.

DATES: Effective Date: This final rule is effective November 26, 2012.

FOR FURTHER INFORMATION CONTACT: Harold Bailey, Program Management Officer (Director of Administration), VA Health Administration Center, Purchased Care (10NB3), Veterans Health Administration, Department of Veterans Affairs, 810 Vermont Ave. NW., Washington, DC 20420; (303) 331-7551. (This is not a toll-free number.)

SUPPLEMENTARY INFORMATION: In a direct final rule published in the Federal Register on September 27, 2012, 77 FR 59318, VA amended 38 CFR 51.43 to eliminate a requirement that a veteran must have resided in a State home for 30 consecutive days before VA will pay per diem for that veteran when there is no overnight stay. VA published a companion substantially identical proposed rule at 77 FR 59354 on the same date to serve as a proposal for the provisions in the direct final rule in case adverse comments were received. The direct final rule and proposed rule each provided a 30-day comment period that ended on October 29, 2012. No significant adverse comments were received. Members of the general public submitted two comments supporting the rulemaking.

Under the direct final rule procedures that were described in 77 FR 59318 and 77 FR 59354, the direct final rule became effective on November 26, 2012, because no significant adverse comments were received within the comment period. In a companion document in this issue of the Federal Register, VA is withdrawing the proposed rulemaking, RIN 2900-AO37, published at 77 FR 59354, as unnecessary.

Signing Authority

The Secretary of Veterans Affairs, or designee, approved this document and authorized the undersigned to sign and submit the document to the Office of the Federal Register for publication electronically as an official document of the Department of Veterans Affairs. John R. Gingrich, Chief of Staff, Department of Veterans Affairs, approved this document on March 20, 2013 for publication.

Dated: March 21, 2013.
Robert C. McFetridge,
Director of Regulation Policy and Management, Office of General Counsel, Department of Veterans Affairs.

[FR Doc. 2013-06828 Filed 3-25-13; 8:45 am]

BILLING CODE 8320-01-P